DEPARTMENT OF THE INTERIOR

Bureau of Land Management

43 CFR Part 2930

[WO-250-1220-PA-24 1A]

RIN 1004-AD25

Permits for Recreation on Public Lands

Correction

In Proposed rule document 00-12124 beginning on page 31234 in the issue of Tuesday, May 16, 2000, make the following correction:

§2932.11 [Corrected]

On page 31241, in the first column in §2932.11, in paragraph (a), “§2932.1” should read “§2932.12”.

[FR Doc. C0-12124 Filed 5-26-00; 8:45 am]

BILLING CODE 1505-01-D

NATIONAL CREDIT UNION ADMINISTRATION

12 CFR Part 716

Privacy of Consumer Financial Information; Requirements for Insurance

Correction

In rule document 00-12014, beginning on page 31722, in the issue of Thursday, May 18, 2000, make the following correction:

On page 31740, in the first column, the part heading, “PART 16” should read “PART 716”.

[FR Doc. C0-12014 Filed 5-26-00; 8:45 am]

BILLING CODE 1505-01-D

DEPARTMENT OF THE TREASURY

Internal Revenue Service

26 CFR Part 1

[TD 8880]

RIN 1545-AU46

Relief From Disqualification for Plans Accepting Rollovers

Correction

In rule document 00-9815, beginning on page 21312, in the issue of Friday, April 21, 2000, make the following correction:

§ 1.401(a)(31)-1 [Corrected]

On page 21314, in the second column, in § 1.401(a)(31)-1, in paragraph (c) Example 1.(i), in the seventh line. “700 ½” should read “70 ½”.

[FR Doc. C0-9815 Filed 5-26-00; 8:45 am]

BILLING CODE 1505-01-D